DEPARTMENT OF COMMERCE

International Trade Administration

A-337-806

Individually Quick Frozen Red Raspberries from Chile: Notice of Final Results of Antidumping Duty Administrative Review

Correction

In notice document 05-23737 beginning on page 72788 in the issue of Wednesday, December 7, 2005, make the following correction:

On page 72788, in the third column, the table is corrected to read as follows:

Exporter/manufacturer | Weighted-average margin percentage
Fruticola Olmue, S.A. | 0.09 (de minimis)
Santiago Comercio Exterior Exportaciones, Ltda. | 0.00
Vital Berry, S.A. | 0.00

[FR Doc. C5-23737 Filed 2-28-06; 8:45 am]

BILLING CODE 1505-01-D